NATIONAL SCIENCE FOUNDATION

Proposal Review Panel for Ocean Sciences; Notice of Meeting

In accordance with the Federal Advisory Committee Act (Pub. L. 92-463, as amended), the National Science Foundation announces the following meeting.

Name: Plum Island Ecosystems LTER (PIE-LTER) Site Review, Proposal Review Panel for Ocean Sciences (10752).

Date and Time:

Oct. 10, 2007, 4 p.m.-8 p.m.

Oct. 11, 2007, 8 a.m.-7 p.m.

Oct. 12, 2007, 8 a.m.-6 p.m.

Place: Ipswich, Massachusetts.

Type of Meeting: Partially Closed.

For Further Information Contact: Dr. Henry Gholz, Division of Environmental Biology, National Science Foundation, 4201 Wilson Blvd., Arlington, VA 22230. Telephone (703) 292-8481.

Purpose of Meeting: Formal third-year review of the Plum Island Ecosystem Long-Term Ecological Research project award.

Agenda:

Monday, 10 October 2007

4-8 p.m. NSF Briefing of the Review Team at Hotel (closed)

Tuesday, 11 October 2007 at The PIE-LTER Site Building

8-4 PIE-LTER Project Introduction (open)

Overview and Evolution/Partnerships

Research Presentations (talks 20 min + questions 5 min)

Education and Outreach

Information Management

Site Management

4-6:45 Reception and Student Posters (open)

Meet with graduate students and post-docs

7 Dinner locally (open); review team separate working dinner (closed)

Wednesday, 12 October 2007

8-8:30 Review Team assemble for initial feedback and questions (closed).

9-11 Meetings on Administration (closed)

1-4:15 Review Team Report Work Session (closed)

4:30-5:55 Report-out by Review Team (closed)

6 Adjourn

Reason for Closing: During closed sessions the review will include information of a confidential nature, including technical and financial information. These matters are exempt under 5 U.S.C. 552b(c), (4) and (6) of the Government in The Sunshine Act.

Dated: August 28, 2007.
Susanne Bolton,
Committee Management Officer.

[FR Doc. E7-17343 Filed 8-30-07; 8:45 am]

BILLING CODE 7555-01-P